NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 28, 2022. This application may be inspected by interested parties at the Permit Office, address below.

ADDRESSES: Comments should be addressed to Permit Office, Office of Polar Programs, National Science Foundation, 2415 Eisenhower Avenue, Alexandria, Virginia 22314.

FOR FURTHER INFORMATION CONTACT: Andrew Titmus, ACA Permit Officer, at the above address, 703-292-4479, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2023-018

1. Applicant

William Muntean, U.S. Department of State, Bureau of Oceans and International Environmental and Scientific Affairs, Office of Ocean and Polar Affairs, 2201 C Street NW, Washington, DC 20520.

Activity for Which Permit Is Requested

Enter Antarctic Specially Protected Areas (ASPAs). The U.S. Department of State proposes to lead an interagency team of inspectors into ASPAs to ensure compliance with the provisions and values of the Antarctic Treaty and the Protocol on Environmental Protection to the Antarctic Treaty. The applicant would review the appropriateness and effective of current management provisions for protecting and preserving Antarctica.

Location

ASPA 125—Fildes Peninsula, King George Island; ASPA 128—Western Shore of Admiralty Bay, King George Island; ASPA 140—Parts of Deception Island, South Shetland Islands; ASPA 143—Marine Plain, Mule Peninsula, Vestfold Hills, Princess Elizabeth Land; ASPA 150—Ardley Island, Maxwell Bay, King George Island; ASPA 167—Hawker Island, Princess Elizabeth Land; ASPA 169—Amanda Bay, Ingrid Christensen Coast, Princess Elizabeth Land; ASPA 174—Stornes, Larsemann Hills, Princess Elizabeth Land.

Dates of Permitted Activities

November 1, 2022-March 31, 2023.

Erika N. Davis,
Program Specialist, Office of Polar Programs.

[FR Doc. 2022-23395 Filed 10-26-22; 8:45 am]

BILLING CODE 7555-01-P